DEPARTMENT OF TRANSPORTATION

Federal Aviation Administration

Notice of Intent To Rule on Request To Release Airport Property at Chickasha Municipal Airport, Chickasha, OK

AGENCY: Federal Aviation Administration (FAA), DOT.

ACTION: Notice of Request to Release Airport Property.

SUMMARY: The FAA proposes to rule and invites public comment on the release of land at Chickasha Municipal Airport under the provisions of Title 49 United States Code, Section 47153.

DATES: Comments must be received on or before September 6, 2005.

ADDRESSES: Comments on this application may be mailed or delivered to the FAA at the following address: Mr. Edward Agnew, Manager, Federal Aviation Administration, Southwest Region, Airports Division, Arkansas/Oklahoma Airports Development Office, ASW-630, Fort Worth, Texas 76193-0630.

In addition, one copy of any comments submitted to the FAA must be mailed or delivered to Mr. Larry Shelton, City Manager, City of Chickasha, at the following address: City of Chickasha, 117 North 4th, Chickasha, OK 73018.

FOR FURTHER INFORMATION CONTACT: Mr. David Hellen, Program Manager, Federal Aviation Administration, Oklahoma Airports Field Unit, Wiley Post Airport, 5909 Philip J. Rhoads Avenue, Oklahoma City, Oklahoma 73008.

The request to release property may be reviewed in person at this same location.

SUPPLEMENTARY INFORMATION: The FAA invites public comment on the request to release property at Chickasha Municipal Airport under the provisions of the Act.

On July 18, 2005, the FAA determined that the request to release property at Chickasha Municipal Airport submitted by the City of Chickasha met the procedural requirements of the Federal Aviation Regulations, Part 155. The FAA may approve the request, in whole or in part, no later than October 18, 2005.

The following is a brief overview of the request: The City of Chickasha requests the release of 9.607 acres of non-aeronautical airport property. The land is part of a War Assets Administration Instrument of Transfer dated June 16, 1949 conveying certain lands comprising the Chickasha Municipal Airport to the City of Chickasha. The release of property will allow funding for maintenance, operation, and development of the airport.

The sale is estimated to provide $20,000.00 in engineering support services from the Oklahoma Military Department to clear airport property in the Runway 36 Protection Zone in exchange for the released property that will be used for the construction of a new Oklahoma Air National Guard Readiness Center.

Any person may inspect the request in person at the FAA office listed above under for further information contact.

In addition, any person may, upon request, inspect the application, notice and other documents germane to the application in person at the Chickasha Municipal Airport.

Issued in Fort Worth, Texas on July 19, 2005.
Joseph G. Washington,
Acting Manager, Airports Division.

[FR Doc. 05-15404 Filed 8-3-05; 8:45 am]

BILLING CODE 4910-13-M